DEPARTMENT OF ENERGY

10 CFR Part 430

[Docket No. EERE-2012-BT-STD-0047]

RIN 1904-AC88

Energy Efficiency Program for Consumer Products: Energy Conservation Standards for Residential Boilers

AGENCY: Office of Energy Efficiency and Renewable Energy, Department of Energy.

ACTION: Notice of public meeting and availability of the Framework Document.

SUMMARY: The U.S. Department of Energy (DOE) is initiating the rulemaking and data collection process to consider amending the energy conservation standards for residential boilers. This rulemaking will satisfy the statutory requirement for DOE to conduct a second round of energy conservation standards rulemaking for residential boilers, and it will also fulfill DOE's statutory obligation to review energy conservation standards within six years after issuance of any final rule establishing or amending a standard to determine whether such standards should be amended. After concluding its initial review of the available information and public comments, DOE will publish either a notice of the determination that standards do not need to be amended, or a notice of proposed rulemaking including new proposed standards. To inform interested parties and to facilitate this process, DOE has prepared a Framework Document that details the analytical approach and scope of coverage for the rulemaking, and identifies several issues on which DOE is particularly interested in receiving comments. DOE will hold a public meeting to discuss and receive comments on its planned analytical approach and issues it will address in this rulemaking proceeding. DOE welcomes written comments and relevant data from the public on any subject within the scope of this rulemaking. A copy of the Framework Document is available at: http://www1.eere.energy.gov/buildings/appliance_standards/residential/furnaces_boilers.html.

DATES: Meeting: DOE will hold a public meeting on Wednesday, March 13, 2013, from 9:00 a.m. to 2:00 p.m. directly after the Residential Furnace and Boilers Test Procedure NOPR Pubic Meeting in Washington, DC. Additionally, DOE plans to conduct the public meeting via webinar. You may attend the public meeting via webinar, and registration information, participant instructions, and information about the capabilities available to webinar participants will be published on DOE's Web site at: http://www1.eere.energy.gov/buildings/appliance_standards/residential/furnaces_boilers.html. Participants are responsible for ensuring that their systems are compatible with the webinar software.

DOE must receive requests to speak at the public meeting before 4:00 p.m., Wednesday, February 27, 2013. DOE must receive an electronic copy of the statement with the name and, if appropriate, the organization of the presenter to be given at the public meeting before 4:00 p.m., Wednesday, March 6, 2013.

Comments: DOE will accept written comments, data, and information regarding the Framework Document before and after the public meeting, but no later than March 28, 2013.

ADDRESSES: The public meeting will be held at the U.S. Department of Energy, Forrestal Building, Room 8E-089, 1000 Independence Avenue SW., Washington, DC 20585-0121. Please note that foreign nationals planning to participate in the public meeting are subject to advance security screening procedures. If a foreign national wishes to participate in the public meeting, please inform DOE of this fact as soon as possible by contacting Ms. Brenda Edwards at (202) 586-2945 so that the necessary procedures can be completed. Please note that any person wishing to bring a laptop computer into the Forrestal Building will be required to obtain a property pass. Visitors should avoid bringing laptops, or allow an extra 45 minutes. As noted above, persons may also attend the public meeting via webinar.

Interested parties are encouraged to submit comments electronically. However, comments may be submitted by any of the following methods:

• Federal eRulemaking Portal: www.regulations.gov. Follow the instructions for submitting comments.

• E-Mail: ResBoilers2012STD0047@ee.doe.gov. Include docket number EERE-2012-BT-STD-0047 and/or regulatory identification number (RIN) 1904-AC88 in the subject line of the message. All comments should clearly identify the name, address, and, if appropriate, organization of the commenter. Submit electronic comments in WordPerfect, Microsoft Word, PDF, or ASCII file format, and avoid the use of special characters or any form of encryption.

• Postal Mail: Ms. Brenda Edwards, U.S. Department of Energy, Building Technologies Program, Mailstop EE-2J, Framework Document for Residential Boilers, Docket No. EERE-2012-BT-STD-0047 and/or RIN 1904-AC88, 1000 Independence Avenue SW., Washington, DC 20585-0121. If possible, please submit all items on a compact disc (CD), in which case it is not necessary to include printed copies.

• Hand Delivery/Courier: Ms. Brenda Edwards, U.S. Department of Energy, Building Technologies Program, Sixth Floor, 950 L'Enfant Plaza SW., Washington, DC 20024. Telephone: (202) 586-2945. If possible, please submit all items on a CD, in which case it is not necessary to include printed copies.

Instructions: All submissions received must include the agency name and docket number and/or RIN for this rulemaking. No telefacsimilies (faxes) will be accepted.

Docket: The docket is available for review at www.regulations.gov, including Federal Register notices, public meeting attendees lists and transcripts, comments, and other supporting documents/materials. All documents in the docket are listed in the www.regulations.gov index. However, not all documents listed in the index may be publicly available, such as information that is exempt from public disclosure.

A link to the docket Web page can be found at: www.regulations.gov/#!docketDetail;dct=FR%252BPR%252BN%252BO%252BSR%252BPS;rpp=25;po=0;D=EERE-2012-BT-STD-0047. This Web page contains a link to the docket for this notice on the www.regulations.gov Web site. The www.regulations.gov Web page contains simple instructions on how to access all documents, including public comments, in the docket.

For information on how to submit a comment, review other public comments and the docket, or participate in the public meeting, contact Ms. Brenda Edwards at (202) 586-2945 or by email: Brenda.Edwards@ee.doe.gov.

FOR FURTHER INFORMATION CONTACT: Mr. John Cymbalsky, U.S. Department of Energy, Office of Energy Efficiency and Renewable Energy, Building Technologies Program, EE-2J, 1000 Independence Avenue SW., Washington, DC 20585-0121. Telephone: (202) 286-1692. Email: residential_furnaces_and_boilers@ee.doe.gov.

Mr. Eric Stas, U.S. Department of Energy, Office of the General Counsel, GC-71, 1000 Independence Avenue SW., Washington, DC 20585-0121. Telephone: (202) 586-9507. E-Mail: Eric.Stas@hq.doe.gov.

For information on how to submit or review public comments and on how to participate in the public meeting, contact Ms. Brenda Edwards, U.S. Department of Energy, Office of Energy Efficiency and Renewable Energy, Building Technologies Program, EE-2J, 1000 Independence Avenue SW., Washington, DC 20585-0121. Telephone: (202) 586-2945. Email: Brenda.Edwards@ee.doe.gov.

SUPPLEMENTARY INFORMATION: Title III, Part B ¹ of the Energy Policy and Conservation Act of 1975 (EPCA or the Act), Public Law 94-163 (42 U.S.C. 6291-6309, as codified) sets forth a variety of provisions designed to improve energy efficiency and established the Energy Conservation Program for Consumer Products Other Than Automobiles, a program covering most major household appliances (collectively referred to as “covered products”).² These include the types of residential boilers ³ that are the subject of this rulemaking. (42 U.S.C. 6292(a)(5)) This program authorizes DOE to establish technologically feasible, economically justified energy efficiency regulations for certain products and equipment that would be likely to result in substantial national energy savings. (42 U.S.C. 6295(o)(2)(B)(i)(I)-(VII))

¹ For editorial reasons, upon codification in the U.S. Code, Part B was redesignated Part A.

² All references to EPCA in this document refer to the statute as amended through the American Energy Manufacturing Technical Corrections Act (AEMTCA), Public Law 112-210 (Dec. 18, 2012).

³ Under 42 U.S.C. 6292(a)(5), the statute establishes “furnaces” as covered products. Originally, boilers were considered a class of furnaces. However, amendments to EPCA in EISA 2007 distinguished between furnaces and boilers in 42 U.S.C. 6295(f) by adding the text “and boilers” to the title of that section and by prescribing standards for those products. Although EISA 2007 did not similarly update 42 U.S.C. 6292(a)(5), it is implicit that this coverage continues to include boilers.

The National Appliance Energy Conservation Act of 1987 (NAECA), Pub. L. 100-12, amended EPCA and established energy conservation standards for residential boilers, as well as requirements for determining whether these standards should be amended. (42 U.S.C. 6295(f)) Specifically, NAECA set minimum standards for boilers in terms of the annual fuel utilization efficiency (AFUE) and required that DOE publish a final rule to determine whether the standard should be amended no later than January 1, 1994. (42 U.S.C. 6295(f)(1) and (4)(B)) It also required that DOE publish a final rule to determine whether standards in effect for such products should be amended after January 1, 1997 and before January 1, 2007. (42 U.S.C. 6295(f)(4)(C))

On November 19, 2007, DOE published a final rule in the Federal Register (hereafter referred to as the “November 2007 final rule”) revising the energy conservation standards for furnaces and boilers, which addressed the first required review of minimum standards for boilers under 42 U.S.C. 6295(f)(4)(B). 72 FR 65136. Compliance with the standards in the November 2007 final rule would have been required by November 19, 2015. However, on December 19, 2007, the Energy Independence and Security Act of 2007 (EISA 2007), Public Law 110-140, was signed into law, which further revised the energy conservation standards for residential boilers. More specifically, EISA 2007 revised the minimum AFUE requirements for residential boilers and set several design requirements for each product class. (42 U.S.C. 6295(f)(3)) EISA 2007 required compliance with the amended energy conservation standards for residential boilers beginning on September 1, 2012. On July 15, 2008, DOE issued a final rule technical amendment, which was published in the Federal Register on July 28, 2008, that codified the EISA 2007 amendments to the energy conservation standards for residential boilers. 73 FR 43611.

DOE is initiating this rulemaking pursuant to 42 U.S.C. 6295(f)(4)(C), which requires DOE to conduct a second round of amended standards rulemaking for residential boilers. EPCA, as amended by EISA 2007, also requires that not later than 6 years after issuance of any final rule establishing or amending a standard, DOE must publish either a notice of the determination that standards for the product do not need to be amended, or a notice of proposed rulemaking including new proposed energy conservation standards. (42 U.S.C. 6295(m)(1)) As noted above, DOE's last final rule for residential boilers was issued on July 15, 2008, so as a result, DOE must act by July 15, 2014. This rulemaking will satisfy both statutory provisions.

Furthermore, EISA 2007 amended EPCA to require that any new or amended energy conservation standard adopted after July 1, 2010 shall address standby mode and off mode energy use, pursuant to 42 U.S.C. 6295(o). (42 U.S.C. 6295(gg)(3)) On October 20, 2010, DOE published a final rule in the Federal Register revising the test procedure for residential boilers to include provisions for measuring standby mode and off mode electricity consumption. 75 FR 64621. DOE then updated the provisions for measuring standby mode and off mode electricity consumption in a subsequent final rule published in the Federal Register on December 31, 2012. 77 FR 76831. DOE will consider standby mode and off mode energy use as part of this rulemaking process for residential boilers.

DOE has prepared the Framework Document to explain the relevant issues, analyses, and processes it anticipates using when considering amended energy conservation standards. The focus of the public meeting noted above will be to discuss the information presented and issues identified in the Framework Document. At the public meeting, DOE will make presentations and invite discussion on the rulemaking process as it applies to residential boilers. DOE will also solicit comments, data, and information from participants and other interested parties.

DOE is planning to conduct in-depth technical analyses in the following areas: (1) Engineering; (2) energy-use characterization; (3) product price; (4) life-cycle cost and payback period; (5) national impacts; (6) manufacturer impacts; (7) utility impacts; (8) employment impacts; (9) emission impacts; and (10) regulatory impacts. DOE will also conduct several other analyses that support those previously listed, including the market and technology assessment, the screening analysis (which contributes to the engineering analysis), and the shipments analysis (which contributes to the national impact analysis).

DOE encourages those who wish to participate in the public meeting to obtain the Framework Document and to be prepared to discuss its contents. A copy of the Framework Document is available at: http://www1.eere.energy.gov/buildings/appliance_standards/residential/furnaces_boilers.html.

Public meeting participants need not limit their comments to the issues identified in the Framework Document. DOE is also interested in comments on other relevant issues that participants believe would affect energy conservation standards for these products, applicable test procedures, or the preliminary determination on the scope of coverage. DOE invites all interested parties, whether or not they participate in the public meeting, to submit in writing by March 28, 2013, comments and information on matters addressed in the Framework Document and on other matters relevant to DOE's consideration of coverage of and standards for residential boilers.

The public meeting will be conducted in an informal, facilitated, conference style. There shall be no discussion of proprietary information, costs or prices, market shares, or other commercial matters regulated by U.S. antitrust laws. A court reporter will record the proceedings of the public meeting, after which a transcript will be available for purchase from the court reporter and placed on the DOE Web site at: http://www1.eere.energy.gov/buildings/appliance_standards/residential/furnaces_boilers.html.

After the public meeting and the close of the comment period on the Framework Document, DOE will collect data, conduct the analyses as discussed in the Framework Document and at the public meeting, and review the public comments it receives.

DOE considers public participation to be a very important part of the process for determining whether to amend energy conservation standards and, if so, in setting those amended standards. DOE actively encourages the participation and interaction of the public during the comment period at each stage of the rulemaking process. Beginning with the Framework Document, and during each subsequent public meeting and comment period, interactions with and among members of the public provide a balanced discussion of the issues to assist DOE in the standards rulemaking process. Accordingly, anyone who wishes to participate in the public meeting, receive meeting materials, or be added to the DOE mailing list to receive future notices and information about this rulemaking should contact Ms. Brenda Edwards at (202) 586-2945, or via email at Brenda.Edwards@ee.doe.gov.

Issued in Washington, DC, on February 5, 2013.
Kathleen B. Hogan,
Deputy Assistant Secretary for Energy Efficiency, Energy Efficiency and Renewable Energy.

[FR Doc. 2013-03000 Filed 2-8-13; 8:45 am]

BILLING CODE 6450-01-P